DEPARTMENT OF COMMERCE

International Trade Administration

[A-201-834]

Purified Carboxymethylcellulose From Mexico: Final Results of the First Five-Year (“Sunset”) Review of Antidumping Duty Order

AGENCY: Import Administration, International Trade Administration, Department of Commerce.

SUMMARY: On September 29, 2010, the Department of Commerce (“the Department”) published a notice of preliminary results of the full sunset review of the antidumping duty order on purified carboxymethylcellulose (“CMC”) from Mexico pursuant to section 751(c) of the Tariff Act of 1930, as amended (“the Act”). See Purified Carboxymethylcellulose from Mexico: Preliminary Results of the First Five-year (“Sunset”) Review of Antidumping Duty Order, 75 FR 60084 (September 29, 2010) (“Preliminary Results”). We provided interested parties an opportunity to comment on our Preliminary Results. The Department did not receive comments from either domestic or respondent interested parties. As a result of this review, the Department continues to find that that revocation of the antidumping duty order with respect to CMC from Mexico would likely lead to continuation or recurrence of dumping at the levels listed below in the section entitled “Final Results of Review.”

FOR FURTHER INFORMATION CONTACT: Dena Crossland or Angelica Mendoza, AD/CVD Operations, Office 7, Import Administration, International Trade Administration, U.S. Department of Commerce, 14th Street and Constitution Avenue, NW., Washington, DC 20230; telephone: (202) 482-3362 or (202) 482-3019, respectively.

SUPPLEMENTARY INFORMATION:

Background

On September 29, 2010, the Department published in the Federal Register a notice of preliminary results of the full sunset review of antidumping duty order on CMC from Mexico, pursuant to section 751(c) of the Act. See Preliminary Results, 75 FR 60084. In our Preliminary Results, we found that revocation of the antidumping duty order with respect to CMC from Mexico would likely lead to a continuation or recurrence of dumping at the margins determined in the final determination of the original investigation. Id. We provided interested parties an opportunity to comment on our Preliminary Results. Id. We did not receive comments from either domestic or respondent interested parties.

Scope of the Order

The merchandise covered by the order is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations, which, at a minimum, reduce the remaining salt and other by-product portion of the product to less than ten percent. The merchandise subject to the order is currently classified in the Harmonized Tariff Schedule of the United States (“HTSUS”) at subheading 3912.31.00.¹ This tariff classification is provided for convenience and Customs purposes; however, the written description of the scope of the order is dispositive.

¹ Although HTSUS number 3912.31.00.10 may be more specific to subject merchandise, it was not created until 2005. As such, we are relying on HTSUS number 3912.31.00 for purposes of this sunset review because in determining whether revocation of an order would likely lead to continuation or recurrence of dumping, the Department considers the margins established in the investigation and/or reviews conducted during the sunset review period as well as the volume of imports for the periods before and after the issuance of the order. See section 752(c)(1) of the Act.

Final Results of Review

We have made no changes to our Preliminary Results, 75 FR 60084. We continue to find that revocation of the antidumping duty order with respect to CMC from Mexico would likely lead to a continuation or recurrence of dumping at the following percentage weighted-average margins:

Manufacturer/producer/exporter | Weighted- average margin percentage
Quimica Amtex | 12.61
All Others | 12.61

In accordance with section 752(c)(3) of the Act, we will notify the International Trade Commission of the final results of this full sunset review.

This notice also serves as the only reminder to parties subject to administrative protective orders (“APO”) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing this notice in accordance with sections 751(c), 752(c), and 777(i)(1) of the Act.

Dated: January 20, 2011.
Ronald K. Lorentzen,
Deputy Assistant Secretary for Import Administration.

[FR Doc. 2011-1797 Filed 1-26-11; 8:45 am]

BILLING CODE 3510-DS-P